DEPARTMENT OF THE INTERIOR

[ES-930-08-1310-00-241A: MSES 46739 and MSES 46740]

Notice of Proposed Reinstatement of Terminated Oil and Gas Leases

AGENCY: Bureau of Land Management, Interior.

ACTION: Notice.

SUMMARY: Per 43 CFR 3108.2-3, the lessee timely filed a petition for reinstatement of oil and gas leases MSES 46739 and MSES 46740, Greene County, Mississippi. The lessee paid the required rentals accruing from the dates of termination.

The Bureau of Land Management has not issued any leases affecting the lands. The lessee paid the $500 administration fee for the reinstatement of each lease. The lessee has met the requirements for reinstatement of the leases per Sec. 31(d) and (e) of the Mineral Leasing Act of 1920 (30 U.S.C. 188). We are proposing to reinstate the leases, effective the date of termination, subject to:

• The original terms and conditions of the leases;

• The increased rental of $10 per acre;

• The increased royalty of 16⅔ percent or 4 percentages above the existing competitive royalty rate; and

• The $148 cost of publishing this Notice.

FOR FURTHER INFORMATION CONTACT: Ida V. Doup, Chief, Branch of Use Authorization, Division of Resources Planning, Use and Protection, BLM Eastern States Office, 7450 Boston Boulevard, Springfield, Virginia 22153, (703) 440-1541.

Dated: March 19, 2001.
Nate Felton,
Acting Chief, Branch of Use Authorization, Division of Resources Planning, Use and Protection.

[FR Doc. 01-7805 Filed 3-28-01; 8:45 am]

BILLING CODE 4310-GJ-M